DEPARTMENT OF DEFENSE

Department of the Army; Corps of Engineers

Intent To Prepare a Draft Environmental Impact Statement for a New Borrow Area for the Martin County Beach Erosion Control Project Located in Martin County, FL

AGENCY: Department of the Army, U.S. Army Corps of Engineers, DoD.

ACTION: Notice of intent.

SUMMARY: The U.S. Army Corps of Engineers, Jacksonville District, intends to prepare a Draft Environmental Impact Statement (DEIS) for a new borrow area for the Martin County Beach Erosion Control Project. In cooperation with Martin County, the study will evaluate alternative sand sources that will maximize shore protection while minimizing environmental impacts.

ADDRESSES: U.S. Army Corps of Engineers, Planning Division, Environmental Branch, P.O. Box 4970, Jacksonville, FL 32232-0019.

FOR FURTHER INFORMATION CONTACT: Mr. Paul M. DeMarco, by e-mail Paul.M.DeMarco@saj02.usace.army.mil or by telephone at (904) 232-1897.

SUPPLEMENTARY INFORMATION: a. Proposed Action. The Martin County, FL, Beach Erosion Control project was authorized by the Water Resources Development Act of 1990 passed November 28, 1990 (Pub. L. 101-640) in accordance with the report of the Chief of Engineers dated November 20, 1989. The final Environmental Impact Statement was filed with the Environmental Protection Agency in 1986. Prior to construction, General Design Memorandum (GDM) dated June 1994 was prepared. The project was authorized for 50 years from date of initial construction in 1996. The authorized plan consisted of restoration of 4 miles of shorefront southward from the St. Lucie County line to near the limit of Stuart Public Park (R1-R25). The previously approved borrow area has been depleted. The DEIS will evaluate various sources of beach quality sand, the impacts from removal of this sand on the environment and coastal processes, and the impacts from nourishing the beach with this sand. Subsequently a final EIS will be published.

b. Alternatives. Specific proposed alternatives at this time include hydraulic dredging of beach quality sand from offshore shoals, truck-haul beach fill from upland sources, and no-action.

c. Scoping Process. The scoping process as outlined by the Council on Environmental Quality will be utilized to involve Federal, State, and local agencies, affected Indian tribes, and other interested persons and organizations. A scoping letter will be sent to the appropriate parties requesting their comments and concerns. Any persons and organizations wishing to participate in the scoping process should contact the U.S. Army Corps of Engineers at (see ADDRESSES).

Significant issues to be analyzed to the DEIS would include effects on Federally listed threatened and endangered species, Essential Fish Habitat with particular concern for nearshore hardbottom habitat. Other issue would be health and safety, water quality, aesthetics and recreation, fish and wildlife resources, cultural resources, socio-economic resources, and any issues identified through scoping and public involvement.

The proposed action would be coordinated with the U.S. Fish and Wildlife Service and the National Marine Fisheries Service (NMFS) pursuant to Section 7 of the Endangered Species Act, with the NMFS concerning Essential Fish Habitat, and with the State Historic Preservation Officer.

The proposed action would also involve evaluation for compliance with guidelines pursuant to Section 404(b) of the Clean Water Act; application (to the State of Florida) for Water Quality Certification pursuant to Section 401 of the Clean Water Act; certification of state lands, easement, and rights of way; and determination of Coastal Zone Management Act consistency.

The U.S. Army Corps of Engineers and the non-Federal sponsor, Martin County, would provide extensive information and assistance on the resources to be impacted and alternatives.

d. Scoping Meetings: Public scoping meetings would be held. Exact dates, times, and locations would be published in local papers.

e. Draft Environmental Impact Statement Availability: The Draft Environmental Impact Statement would be available on or about October 2007.

Dated: May 19, 2007.
Stuart J. Appelbaum,
Chief, Planning Division.

[FR Doc. 07-2580 Filed 5-24-07; 8:45 am]

BILLING CODE 3710-AS-M